DEPARTMENT OF HOUSING AND URBAN DEVELOPMENT

[Docket No. FR-7040-N-01; OMB Control No. 2577-0218]

60-Day Notice of Proposed Information Collection: Indian Housing Block Grant (IHBG) Program

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 26, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, (Room 3178), Washington, DC 20410; telephone 202-708-3000, extension 3374, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Indian Housing Block Grant Program.

OMB Approval Number: 2577-0218.

Type of Request: Revision of a currently approved collection.

Form Numbers: HUD-52737; HUD-4117; HUD-4119; HUD-52736-A; HUD-52736-B; HUD-53246; HUD-53247; HUD-XXXX.

Description of the need for the information and proposed use: The purpose of this notice is to solicit public comment on forms associated with the Indian Housing Block Grant Formula program (IHBG Formula) and the Indian Housing Block Grant Competitive program (IHBG Competitive). The Department of Housing and Urban Development's Office of Native American Programs is responsible for managing and evaluating the programs and for annual Congressional reporting.

Respondents: Native American Tribes, Alaska Native Villages and Corporations, and Tribally Designated Housing Entities.

Estimation of the total numbers of hours needed to prepare the information collection including number of respondents, frequency of responses, and hours of response:

Information collection | Form name | Number of respondents | Number of responses per respondent | Total annual responses | Burden hour/ minutes per response | Total annual burden
HUD-52737 | IHBG Formula IHP/APR | 792 | 2 | 1,584.00 | 62.00 | 98,208.00
HUD-4117 | Formula Response Form | 792 | 1 | 792.00 | 2.00 | 1,584.00
HUD-4119 | Formula Challenge Form | 15 | 1 | 15.00 | 150.00 | 2,250.00
HUD-52736-A | Depository Agreement (Banker) | 394 | 1 | 394.00 | 0.25 | 98.50
HUD-52736-B | Depository Agreement (Broker) | 394 | 1 | 394.00 | 0.25 | 98.50
HUD-53246 | IHBG Cost Summary | 54 | 1 | 54.00 | 2.00 | 108.00
HUD-53247 | IHBG Implementation Schedule | 54 | 1 | 54.00 | 2.00 | 108.00
HUD-XXXX | IHBG Competitive APR | 54 | 1 | 54.00 | 32.00 | 1,728.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: January 8, 2021.
Merrie Nichols-Dixon,
Director, Office of Policy, Programs and Legislative Initiatives.

[FR Doc. 2021-01480 Filed 1-22-21; 8:45 am]

BILLING CODE 4210-67-P